INTERNATIONAL TRADE COMMISSION

[Investigation Nos. 701-TA-452 and 731-TA-1129-1130 (Final)]

Raw Flexible Magnets From China and Taiwan

Determinations

On the basis of the record ¹ developed in the subject investigations, the United States International Trade Commission (Commission) determines, pursuant to section 705(b) of the Tariff Act of 1930 (19 U.S.C. 1671d(b)) (the Act), that an industry in the United States is threatened with material injury by reason of imports from China of raw flexible magnets, provided for in subheadings 8505.19.10 and 8505.19.20 of the Harmonized Tariff Schedule of the United States, that have been found by the Department of Commerce (Commerce) to be subsidized by the Government of China.² The Commission further determines, pursuant to section 735(b) of the Act (19 U.S.C. 1673d(b)), that an industry in the United States is threatened with material injury by reason of imports from China and Taiwan of raw flexible magnets that have been found by Commerce to be sold in the United States at less than fair value (LTFV).³ ⁴ In addition, the Commission determines that it would not have found material injury but for the suspension of liquidation.

¹ The record is defined in sec. 207.2(f) of the Commission's Rules of Practice and Procedure (19 CFR 207.2(f)).

² Commissioner Charlotte R. Lane determines that an industry in the United States is materially injured by reason of such imports.

³ Commissioner Charlotte R. Lane determines that an industry in the United States is materially injured by reason of such imports.

⁴ Vice Chairman Daniel R. Pearson and Commissioner Deanna Tanner Okun determine that an industry in the United States is neither materially injured nor threatened with material injury by reason of such imports from Taiwan.

Background

The Commission instituted these investigations effective September 21, 2007, following receipt of a petition filed with the Commission and Commerce by Magnum Magnetics Corp., Marietta, OH. The final phase of the investigations was scheduled by the Commission following notification of preliminary determinations by Commerce that imports of raw flexible magnets from China were being subsidized within the meaning of section 703(b) of the Act (19 U.S.C. 1671b(b)), and that imports of raw flexible magnets from China and Taiwan were being sold at LTFV within the meaning of section 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register of May 8, 2008 (73 FR 26145). The hearing was held in Washington, DC, on July 10, 2008, and all persons who requested the opportunity were permitted to appear in person or by counsel.

The Commission transmitted its determinations in these investigations to the Secretary of Commerce on August 25, 2008. The views of the Commission are contained in USITC Publication 4030 (August 2008), entitled Raw Flexible Magnets from China and Taiwan: Investigations No. 701-TA-452 and 731-TA-1129-1130 (Final).

Issued: August 25, 2008.
By order of the Commission.
Marilyn R. Abbott,
Secretary to the Commission.

[FR Doc. E8-20227 Filed 8-29-08; 8:45 am]

BILLING CODE 7020-02-P